DEPARTMENT OF THE INTERIOR

Office of the Secretary

[19XD4523WS/DWSN00000.000000/DS61500000/DP.61501]

Notice of Public Meetings of the Invasive Species Advisory Committee

AGENCY: National Invasive Species Council, Interior.

ACTION: Announcement of meeting.

SUMMARY: Pursuant to the provisions of the Federal Advisory Committee Act, notice is hereby given of a meeting of the Invasive Species Advisory Committee. The purpose of the Advisory Committee (ISAC) is to provide advice to the National Invasive Species Council (NISC), as authorized by Executive Orders 13112 and 13751, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues. The purpose of a teleconference meeting on Thursday, May 2, 2019, is to convene the full ISAC to consider for approval the final deliverables from ISAC Class 9: (1) A white paper on the impacts of invasive ticks on human health and military readiness; and (2) a retrospective paper on the effectiveness of ISAC recommendations to NISC from 2000 to 2018. Members of the public are welcome to participate by accessing the teleconference. Other than during the public comment period, public participation is in an observer capacity. The toll-free conference phone number and access code can be obtained after registering participation through the NISC Secretariat's website, www.invasivespecies.gov. The meeting agenda will be available on the aforementioned website on or about April 19, 2019. Accommodation is also being made for the public to join the teleconference at the U.S. Department of the Interior Stuart Udall Building in Washington, DC. Details are provided later in ADDRESSES section of this notice. NOTE: The maximum capacity of the teleconference is 100 participants. For record keeping purposes, participants will be required to provide their name and contact information to the operator before being connected.

DATES: Teleconference Meeting of the Invasive Species Advisory Committee: Thursday, May 2, 2019; 1:00-3:00 p.m. (EDT).

ADDRESSES: U.S. Department of the Interior, Stuart Udall Building (MIB), 1849 C Street NW, North Penthouse, Washington, DC 20240. All visiting members of the public must be cleared through building security prior to being escorted to the meeting location. At least 48 hours prior to the meeting, please call the number listed in this notice for pre-clearance.

FOR FURTHER INFORMATION CONTACT: Kelsey Brantley, Coordinator for NISC and ISAC Operations, National Invasive Species Council Secretariat, (202) 208-4122; Fax: (202) 208-4118, email: kelsey_brantley@ios.doi.gov.

Stanley W. Burgiel,
Acting Executive Director, National Invasive Species Council.

[FR Doc. 2019-07780 Filed 4-16-19; 8:45 am]

BILLING CODE 4334-63-P